DEPARTMENT OF ENERGY

Federal Energy Regulatory Commission

[Docket No. EG02-79-000, et al.]

PG&E Dispersed Generating Company, LLC, et al.; Electric Rate and Corporate Regulation Filings

February 5, 2002.

Take notice that the following filings have been made with the Commission. Any comments should be submitted in accordance with Standard Paragraph E at the end of this notice.

1. PG&E Dispersed Generating Company, LLC

[Docket No. EG02-79-000]

Take notice that on January 31, 2002, PG&E Dispersed Generating Company, LLC (PG&E Dispersed Gen), a Delaware limited liability company with its principal place of business at 7500 Old Georgetown Road, Bethesda, MD 20814, filed with the Federal Energy Regulatory Commission (Commission) an application for redetermination of exempt wholesale generator (EWG) status pursuant to Part 365 of the Commission's regulations.

PG&E Dispersed Gen previously has been determined to be an EWG. This filing is occasioned by PG&E Dispersed Gen's acquisition of interests in two additional eligible facilities, and to notify the Commission that certain other eligible facilities are no longer operational. All output from its facilities will be sold exclusively at wholesale within the meaning of Section 32 of PUHCA.

Comment Date: February 26, 2002.

2. B.L. England Power LLC

[Docket No. EG02-80-000]

Take notice that on February 1, 2002, B.L. England Power LLC filed with the Federal Energy Regulatory Commission (Commission) an application for determination of exempt wholesale generator status pursuant to section 32(a)(1) of the Public Utility Holding Company Act of 1935 (PUHCA). The applicant states that it is a limited liability company organized under the laws of the State of Delaware that is acquiring the B.L. England Station (Facilities) in Beesley's Point, New Jersey. Determinations pursuant to section 32(c) of PUHCA have been received from the State commissions of Delaware, Maryland, Virginia, and New Jersey.

Comment Date: February 26, 2002.

3. Deepwater Power LLC

[Docket No. EG02-81-000]

Take notice that on February 1, 2002, Deepwater Power LLC filed with the Federal Energy Regulatory Commission (Commission) an application for determination of exempt wholesale generator status pursuant to section 32(a)(1) of the Public Utility Holding Company Act of 1935 (PUHCA). The applicant states that it is a limited liability company organized under the laws of the State of Delaware that is acquiring the Deepwater Station in Pennsville, New Jersey (Facilities) and selling electric energy at wholesale. The total capacity of the operating units of the Facilities is 239 MW. Determinations pursuant to section 32(c) of PUHCA have been received from the State commissions of Delaware, Maryland, Virginia, and New Jersey.

Comment Date: February 26, 2002.

4. Otter Tail Power Company

[Docket No. ER02-912-000]

Take notice that on January 31, 2002, Otter Tail Power Company submitted a Control Area Services and Operations Tariff and requested termination of its Open Access Transmission Tariff. The Control Area Services and Operations Tariff and the termination of the Open Access Transmission Tariff are proposed in order to accommodate the start-up of Midwest Independent Transmission System Operator, Inc. Open Access Transmission Tariff administration.

Comment Date: February 21, 2002.

5. Michigan Electric Transmission Company

[Docket No. ER02-914-000]

Take notice that on January 31, 2002, Michigan Electric Transmission Company (METC) tendered for filing a revised Service Agreement with Wolverine Power Supply Cooperative, Inc. (Customer) to continue arrangements regarding the use of Plains Road Substation facilities for the provision of Network Integration Transmission Service (designated Second Revised Service Agreement No. 8 under METC FERC Electric Tariff No. 1). The revised Service Agreement reflects the terms of a January 30, 2002 letter agreement to the Service Agreement which, among other things, lowers the Facilities Usage Fees from $888 to $635 per month and from $0.20/kW/month to $0.18/kW/month. METC requests a January 1, 2002 effective date.

Copies of the filing were served upon the Customer and the Michigan Public Service Commission.

Comment Date: February 21, 2002.

6. The Detroit Edison Company

[Docket No. ER02-915-000]

Take notice that on January 31, 2002, The Detroit Edison Company (Detroit Edison) tendered for filing amended and restated electric supply agreements for wholesale power sales transactions under Detroit Edison's Wholesale Power Sales Tariff (WPS-1), FERC Electric Tariff, Original Vol. No. 4 (the WPS-1 Tariff) between Detroit Edison and the City Croswell, Michigan; Detroit Edison and the Village of Sebewaing, Michigan; and Detroit Edison and Thumb Electric Cooperative.

Comment Date: February 21, 2002.

7. Otter Tail Power Company

[Docket No. ER02-916-000]

Take notice that on January 31, 2002, Otter Tail Power Company filed a proposal to cancel parts of its Open Access Transmission Tariff, substitute an Ancillary Services Form of Agreement, and to submit an Ancillary Services Agreement. Otter Tail Power Company filed this proposal in order to accommodate the start-up of Midwest Independent Transmission System Operator, Inc. Open Access Transmission Tariff administration.

Comment Date: February 21, 2002.

8. Midwest Independent Transmission System Operator, Inc.

[Docket No. ER02-918-000]

Take notice that on January 30, 2002, pursuant to Section 205 of the Federal Power Act and Section 35.16 of the Commission's regulations, 18 CFR 35.16 (2001), the Midwest Independent Transmission System Operator, Inc. (Midwest ISO) submitted for filing a Notice of Succession for certain Transmission Service Agreements and Network Transmission Service and Operating Agreements held by Central Illinois Light Company (CILCO).

Copies of this filing were sent to all applicable customers under the CILCO Open Access Transmission Tariff by placing a copy of the same in the United States mail, first-class postage prepaid.

Comment Date: February 21, 2002.

9. Midwest Independent Transmission System Operator, Inc.

[Docket No. ER02-919-000]

Take notice that on January 31, 2002, pursuant to Section 205 of the Federal Power Act and Section 35.16 of the Commission's regulations, 18 CFR 35.16 (2001), the Midwest Independent Transmission System Operator, Inc. (Midwest ISO) submitted for filing a Notice of Succession for certain Transmission Service Agreements and Network Transmission Service and Operating Agreements held by Indianapolis Power & Light Company (IPL).

Copies of this filing were sent to all applicable customers under the IPL Open Access Transmission Tariff by placing a copy of the same in the United States mail, first-class postage prepaid.

Comment Date: February 21, 2002.

10. Michigan Electric Transmission Company

[Docket No. ER02-923-000]

Take notice that on January 31, 2002, Michigan Electric Transmission Company (Michigan Transco) tendered for filing an executed revised Service Agreement for Network and Firm and Non-Firm Point to Point and Network Transmission Service with Quest Energy, L.L.C. (Customer) pursuant to the Joint Open Access Transmission Service Tariff filed on February 22, 2001 by Michigan Transco and International Transmission Company (ITC). Michigan Transco is requesting an effective date of September 1, 2001. Customer is taking service under the Service Agreement in connection with Consumers Energy Company's (Consumers) Electric Customer Choice program.

Copies of the filed agreement were served upon the Michigan Public Service Commission, ITC, Consumers and the Customer.

Comment Date: February 21, 2002.

11. Michigan Electric Transmission Company

[Docket No. ER02-924-000]

Take notice that on January 31, 2002 Michigan Electric Transmission Company, (METC) filed unexecuted Service Agreements for Network Integration Transmission and Network Operating Agreements (Agreements) with the Cities of Bay City, Eaton Rapids, Hart, Portland and St. Louis and the Village of Chelsea, (jointly, Customers) pursuant to the Joint Open Access Transmission Service Tariff filed on February 22, 2001 by Michigan Transco and International Transmission Company (ITC). The Agreements being filed are Service Agreement Nos. 138 through 143 under that tariff. Michigan Transco is requesting an effective date of January 1, 2002 for the Agreements. Copies of the filed Agreements were served upon the Michigan Public Service Commission, ITC and the Customers.

Comment Date: February 21, 2002.

12. Southern California Edison Company

[Docket No. ER02-925-000]

Take notice that on January 31, 2002, Southern California Edison Company (SCE) tendered for filing a revision to its Transmission Owner Tariff (TO Tariff), FERC Electric Tariff, Substitute First Revised Original Volume No. 6. SCE proposes to revise its TO Tariff to reflect: (1) An increase in the Base transmission rate levels applicable to wholesale and retail service consistent with the increase in the Base Transmission Revenue Requirements; (2) a reduction to the Transmission Revenue Balancing Account Adjustment (TRBAA); and (3) changes to certain terms and conditions of the TO Tariff Tariff necessitated by the proposed transmission rate changes. The proposed changes would increase revenues from TO Tariff transmission customers by $44.7 million based on the 12 month period ending December 31, 2002.

Copies of this filing were served upon the Public Utilities Commission of the State of California, the California Independent System Operator Corporation (ISO), the California Electricity Oversight Board, and all ISO-certified Scheduling Coordinators.

Comment Date: February 21, 2002.

13. Western Resources, Inc. and Kansas Gas and Electric Company

[Docket No. ER02-926-000]

Take notice that on January 28, 2002, Western Resources, Inc. (d.b.a. Westar Energy), on its behalf and on the behalf of its wholly-owned subsidiary Kansas Gas and Electric Company (KGE) (d.b.a. Westar Energy), submitted for filing a notice of cancellation regarding its Peaking Capacity Sales Agreements with Kansas City Power & Light Company (KCPL).

Western Resources requests an effective date of January 28, 2002. Copies of the filing were served upon KCPL, the Kansas Corporation Commission and the Missouri Public Service Commission..

Comment Date: February 19, 2002.

14. LTV Steel Mining Company

[Docket No. ER02-927-000]

Take notice that on January 28, 2002, LTV Steel Mining Company filed with the Federal Energy Regulatory Commission (Commission) a Revised Agreement for Temporary Interconnection and Transmission Service under which it proposes to continue to provide temporary interconnection and transmission service to Rainy River Energy Corporation—Taconite Harbor over its transmission facilities.

Comment Date: February 19, 2002.

15. Ameren Services Company

[Docket No. ER02-928-000]

Take notice that on January 30, 2002, Ameren Services Company (Ameren Services) tendered for filing an unexecuted Network Operating Agreement and an unexecuted Service Agreement for Network Integration Transmission Service between Ameren Services and the City of Fredericktown, Missouri (Fredericktown). Ameren Services asserts that the purpose of the Agreements is to permit Ameren Services to provide transmission service to Fredericktown pursuant to Ameren's Open Access Tariff.

Comment Date: February 20, 2002.

16. Ameren Services Company

[Docket No. ER02-929-000]

Take notice that on January 30, 2002, Ameren Services Company (Ameren Services) tendered for filing an unexecuted Network Operating Agreement and an unexecuted Service Agreement for Network Integration Transmission Service between Ameren Services and Citizens Electric Corporation (Citizens). Ameren Services asserts that the purpose of the Agreements is to permit Ameren Services to provide transmission service to Citizens pursuant to Ameren's Open Access Tariff.

Comment Date: February 20, 2002.

17. Ameren Services Company

[Docket No. ER02-930-000]

Take notice that on January 30, 2002, Ameren Services Company (Ameren Services) tendered for filing an unexecuted Network Operating Agreement and an unexecuted Service Agreement for Network Integration Transmission Service between Ameren Services and the City of Farmington, Missouri (Farmington). Ameren Services asserts that the purpose of the Agreements is to permit Ameren Services to provide transmission service to Farmington pursuant to Ameren's Open Access Tariff.

Comment Date: February 20, 2002.

18. Ameren Services Company

[Docket No. ER02-930-000]

Take notice that on January 30, 2002, Ameren Services Company (Ameren Services) tendered for filing an unexecuted Network Operating Agreement and an unexecuted Service Agreement for Network Integration Transmission Service between Ameren Services and the City of Farmington, Missouri (Farmington). Ameren Services asserts that the purpose of the Agreements is to permit Ameren Services to provide transmission service to Farmington pursuant to Ameren's Open Access Tariff.

Comment Date: February 20, 2002.

19. Ameren Services Company

[Docket No. ER02-931-000]

Take notice that on January 30, 2002, Ameren Services Company (Ameren Services) tendered for filing an unexecuted Network Operating Agreement and an unexecuted Service Agreement for Network Integration Transmission Service between Ameren Services and the City of Owensville, Missouri (Owensville). Ameren Services asserts that the purpose of the Agreements is to permit Ameren Services to provide transmission service to Owensville pursuant to Ameren's Open Access Tariff.

Comment Date: February 20, 2002.

20. Virginia Electric and Power Company

[Docket No. ER02-932-000]

Take notice that on January 31, 2002, Virginia Electric and Power Company (Dominion Virginia Power or the Company) tendered for filing a redacted, non-confidential Wholesale Power Supply Agreement (Agreement) labeled “Proprietary Commercial Information Redacted” by Virginia Electric and Power Company to The United Illuminating Company, designated as Service Agreement Number 204, under the Company's FERC Electric Tariff, Third Revised Vol. No. 4. The Company also tendered an unredacted, confidential copy of the Service Agreement labeled “Contains Proprietary, Commercial Information—Do Not Release” and identifies the information for which privileged treatment is sought. The Company requests privileged treatment of certain information contained in the Agreement pursuant to section 388.112 of the Commission's regulations, 18 CFR 388.112 (2001).

The Company requests an effective date of January 1, 2002, the date service was first provided to the customer under the Agreement. Copies of the filing were served upon The United Illuminating Company, the Virginia State Corporation Commission, and the North Carolina Utilities Commission

Comment Date: February 21, 2002.

21. North American Electric Reliability Council

[Docket No. ER02-933-000]

Take notice that on January 31, 2002, the North American Electric Reliability Council filed a report and a motion for the continuation of its Market Redispatch Program beyond March 1, 2002.

Comment Date: February 21, 2002.

22. Commonwealth Edison Company

[Docket No. ER02-934-000]

Take notice that on January 31, 2002, Commonwealth Edison Company (ComEd) submitted for filing an unexecuted Service Agreement for Short-Term Firm Point-to-Point Transmission Service (Service Agreement) and the associated unexecuted Dynamic Scheduling Agreement (DSA) with Exelon Generation Company, LLC (Exelon) under ComEd's Open Access Transmission Tariff (OATT).

ComEd requests an effective date of February 1, 2002, and accordingly, seeks waiver of the Commission's notice requirements. A copy of this filing was served on Exelon and Ormet.

Comment Date: February 21, 2002.

23. Boston Edison Company

[Docket No. ER02-936-000]

Take notice that on January 31, 2002, Boston Edison Company (Boston Edison) tendered for filing its First Revised Service Agreement No. 67 to Volume No. 8 of its Open Access Transmission Tariff. Service Agreement No. 67 is an executed service agreement between Boston Edison and Entergy Nuclear Generation Company for Network Integration Transmission Service. The purpose of the filing is to correct two typographical errors in the original service agreement. Boston Edison requests waiver of the Commission's regulations to permit an effective date of November 1, 1999 to coincide with the effective date of the original service agreement.

Copies of the filing were served upon the Entergy Nuclear Generation Company and the Massachusetts Department of Telecommunications and Energy.

Comment Date: February 21, 2002.

24. Cobb Electric Membership Corporation

[Docket No. ER02-937-000]

Take notice that on January 31, 2002, Cobb Electric Membership Corporation (Cobb) filed a long-term power sales agreement between Cobb and Pataula Electric Membership Corporation (the Agreement). Confidential treatment is being sought for the Agreement.

Comment Date: February 21, 2002.

25. Central Illinois Light Company

[Docket No. ER02-938-000]

Take notice that on January 31, 2002, Central Illinois Light Co. filed a proposal to cancel parts of its Open Access Transmission Tariff and substitute an Ancillary Services Form of Agreement. Such cancellation and substitution are proposed in order to accommodate the start-up of Midwest Independent Transmission System Operator, Inc. Open Access Transmission Tariff administration.

Comment Date: February 21, 2002.

26. Southern Company Services, Inc.

[Docket No. ER02-939-000]

Take notice that on January 31, 2002, Southern Company Services, Inc. (SCS), acting on behalf of Alabama Power Company, Georgia Power Company, Gulf Power Company, Mississippi Power Company, and Savannah Electric and Power Company (collectively referred to as Southern Companies), filed one (1) agreement for network integration transmission service between Southern Companies and Generation Energy Marketing, a department of SCS, as agent for Georgia Power Company, under the Open Access Transmission Tariff of Southern Companies (FERC Electric Tariff, Fourth Revised Volume No. 5). Under this agreement, power will be delivered to the City of Hampton's Hampton Delivery Point. This agreement is being filed in conjunction with a power sale by SCS, as agent for Georgia Power Company, to the City of Hampton under Southern Companies' Market-Based Rate Power Sales Tariff.

Comment Date: February 21, 2002.

27. Midwest Independent Transmission System Operator Inc.

[Docket Nos. RT01-87-006 and ER02-108-004]

Take notice that on January 28, 2002, Midwest Independent Transmission System Operator Inc. (Midwest ISO) tendered for filing with the Federal Energy Regulatory Commission (Commission) a compliance filing pursuant to the Commission's Order issued in the above-referenced proceedings, 97 FERC ¶ 61,326 (2001), and revisions to the Midwest ISO Open Access Transmission Tariff , FERC Electric Tariff, First Revised Volume No. 1, and the Agreement of the Transmission Facilities Owners to Organize the Midwest Independent Transmission System Operator, Inc. (Midwest ISO Agreement), First Revised Rate Schedule FERC No. 1.

The Midwest ISO seeks an effective date of February 1, 2002.

The Midwest ISO also seeks waiver of the Commission's regulations, 18 CFR 385-2010 (2001), with respect to service on all parties on the official service list in these proceedings. The Midwest ISO has electronically served a copy of this filing, with attachments, upon all Midwest ISO Members, Member representatives of Transmission Owners and Non-Transmission Owners, the Midwest commissions within the region. In addition, the filing has been electronically posted on the Midwest ISO's website at www.midwestios.org under the heading “Filings to FERC” for other interested parties in this matter. The Midwest ISO will provide hard copies to interested parties upon request.

Comment Date: February 19, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Maglaie R. Salas,
Secretary.

[FR Doc. 02-3292 Filed 2-11-02; 8:45 am]

BILLING CODE 6717-01-P